DEPARTMENT OF DEFENSE

Department of the Army; Corps of Engineers

Cancellation of Notice of Intent To Prepare a Draft Environmental Impact Statement for the Mississippi River Diversion Near Benny's Bay, Mississippi River Delta, LA

AGENCY: Department of the Army, U.S. Army Corps of Engineers, DoD.

ACTION: Notice of cancellation.

SUMMARY: The U.S. Army Corps of Engineers, New Orleans District, is canceling a notice of intent to prepare a Draft Environmental Impact Statement (EIS) published in the Federal Register (66 FR 65681), December 20, 2001.

FOR FURTHER INFORMATION CONTACT: Questions concerning this notice should be addressed to Mr. Michael Salyer: U.S. Army Corps of Engineers, PM-RS, P.O. Box 60267, New Orleans, LA 70160-0267, phone (504) 862-2037, fax number (504) 862-2572 or by E-mail at michael.r.salyer@mvn02.usace.army.mil.

SUPPLEMENTARY INFORMATION: As a result of additional information, a decision was reached that significant impacts are no longer anticipated at the outset of planning for the Mississippi River Diversion near Benny's Bay, Mississippi River Delta, LA. An environmental analysis will be accomplished through an Environmental Assessment (EA) and not an EIS. Upon completion of the EA, full disclosure to the public will be accomplished as mandated through Engineers Regulation 200-2. Should the EA indicate 1 significant impacts as a result of the diversion project, another notice of intent would be published at that time to specify the intent to prepare an EIS; formal procedures for the public scoping process would ensue at that time.

Dated: July 19, 2002.
Peter J. Rowan,
Colonel, U.S. Army, District Engineer.

[FR Doc. 02-19706 Filed 8-2-02; 8:45 am]

BILLING CODE 3710-84-P